DEPARTMENT OF ENERGY

Federal Energy Regulatory Commission

Combined Notice of Filings #2

Take notice that the Commission received the following electric corporate filings:

Docket Numbers: EC18-93-000.

Applicants: Beech Ridge Energy, LLC.

Description: Application for Authorization under Section 203 of the Federal Power Act and Request for Waivers and Expedited Action of Beech Ridge Energy, LLC.

Filed Date: 5/22/18.

Accession Number: 20180522-0002.

Comments Due: 5 p.m. ET 6/12/18.

Take notice that the Commission received the following electric rate filings:

Docket Numbers: ER10-2667-001.

Applicants: Invenergy Cannon Falls LLC.

Description: Compliance filing: Informational Filing Regarding Upstream Change in Ownership to be effective N/A.

Filed Date: 5/25/18.

Accession Number: 20180525-5150.

Comments Due: 5 p.m. ET 6/15/18.

Docket Numbers: ER18-1481-001.

Applicants: Duke Energy Florida, LLC.

Description: Tariff Amendment: DEF Amendment to IA Annual Cost Factor Update (2018) to be effective 5/1/2018.

Filed Date: 5/25/18.

Accession Number: 20180525-5140.

Comments Due: 5 p.m. ET 6/15/18.

Docket Numbers: ER18-1687-000.

Applicants: Citizens Sunrise Transmission LLC.

Description: § 205(d) Rate Filing: Annual Operating Cost True-Up Adjustment Informational Filing to be effective 6/1/2018.

Filed Date: 5/25/18.

Accession Number: 20180525-5091.

Comments Due: 5 p.m. ET 6/15/18.

Docket Numbers: ER18-1688-000.

Applicants: Meadow Lake Wind Farm III LLC.

Description: Baseline eTariff Filing: Rate Schedule for Reactive Supply and Voltage Control to be effective 7/24/2018.

Filed Date: 5/25/18.

Accession Number: 20180525-5092.

Comments Due: 5 p.m. ET 6/15/18.

Docket Numbers: ER18-1689-000.

Applicants: Southern California Edison Company.

Description: § 205(d) Rate Filing: GIA & DSA Valencia Energy Storage Project SA Nos. 1023-1024 to be effective 5/16/2018.

Filed Date: 5/25/18.

Accession Number: 20180525-5115.

Comments Due: 5 p.m. ET 6/15/18.

Docket Numbers: ER18-1690-000.

Applicants: San Diego Gas & Electric Company.

Description: Informational Filing [Cycle 7] of Transmission Owner Rate Appendix X Formula rate mechanism of San Diego Gas & Electric Company.

Filed Date: 5/25/18.

Accession Number: 20180525-5154.

Comments Due: 5 p.m. ET 6/15/18.

Docket Numbers: ER18-1691-000.

Applicants: BSW ProjectCo LLC.

Description: Request for Limited Tariff Waiver, et al. of BSW ProjectCo LLC.

Filed Date: 5/25/18.

Accession Number: 20180525-5155.

Comments Due: 5 p.m. ET 6/8/18.

Docket Numbers: ER18-1692-000.

Applicants: PJM Interconnection, L.L.C.

Description: § 205(d) Rate Filing: Revised ISA No. 4242, Queue No. Z1-092/AD1-142 to be effective 4/24/2018.

Filed Date: 5/25/18.

Accession Number: 20180525-5207.

Comments Due: 5 p.m. ET 6/15/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 25, 2018.
Nathaniel J. Davis, Sr.,
Deputy Secretary.

[FR Doc. 2018-11889 Filed 6-1-18; 8:45 am]

BILLING CODE 6717-01-P